DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 21, 2006.

Interested persons are invited to submit written comments regarding the subject matter of the investigations to the Director, Division of Trade Adjustment Assistance, at the address shown below, not later than August 21, 2006.

The petitions filed in this case are available for inspection at the Office of the Director, Division of Trade Adjustment Assistance, Employment and Training Administration, U.S. Department of Labor, Room C-5311, 200 Constitution Avenue, NW., Washington, DC 20210.

Signed at Washington, DC, this 2nd day of August 2006.
Richard Church,
Acting Director, Division of Trade Adjustment Assistance.

Appendix
[TAA petitions instituted between 7/25/06 and 7/28/06]
TA-W | Subject firm (petitioners) | Location | Date of institution | Date of petition
59771 | Fred Meyer/Kroger, Inc. (State) | Portland, OR | 07/25/06 | 07/21/06
59772 | DuPont Automotive Systems (Comp) | Troy, MI | 07/25/06 | 07/21/06
59773 | Euromatic Plastics (Wkrs) | Wilson, NC | 07/25/06 | 07/11/06
59774 | Cranston Print Works Company (Union) | Webster, MA | 07/25/06 | 07/20/06
59775 | LENA Phillips-Advance Transformer (Comp) | Boscobel, WI | 07/25/06 | 07/20/06
59776 | Managed Business Solutions (State) | Colorado Springs, CO | 07/25/06 | 07/24/06
59777 | Clarion Technologies, Inc. (Comp) | Greenville, MI | 07/25/06 | 07/05/06
59778 | Honeywell Automation and Control Systems (State) | Golden Valley, MN | 07/25/06 | 07/24/06
59779 | Crestwoods, Inc. (Comp) | Winchester, NH | 07/25/06 | 07/24/06
59780 | Elliott Company (USW) | Jeannette, PA | 07/25/06 | 07/25/06
59781 | Morse Automotive (Comp) | Cartersville, GA | 07/25/06 | 07/21/06
59782 | MPP (Wkrs) | St. Mary's, PA | 07/25/06 | 07/11/06
59783 | Rodman Industries (USW) | Marinette, WI | 07/25/06 | 07/10/06
59784 | Johnson Controls, Inc. (JCI) (Union) | West Carrollton, OH | 07/25/06 | 07/13/06
59785 | Collins and Aikman (USWA) | Nashville, TN | 07/25/06 | 07/17/06
59786 | United Plastics Group, Inc. (Comp) | Anaheim, CA | 07/25/06 | 07/13/06
59787 | AGX Corporation (Comp) | New York, NY | 07/25/06 | 06/30/06
59788 | Ace Product, LLC (Union) | Newport, TN | 07/25/06 | 07/19/06
59789 | Allied Air Enterprises (UAW) | Bellevue, OH | 07/25/06 | 07/16/06
59790 | Premier Turbines (Comp) | Neosho, MO | 07/25/06 | 07/24/06
59791 | General Motors Corp. (State) | Beaverton, OR | 07/26/06 | 07/25/06
59792 | Engineered Plastic Products, Inc. (Comp) | Ypsilanti, MI | 07/26/06 | 07/25/06
59793 | Jarvis Pemco (Comp) | Kalamazoo, MI | 07/26/06 | 07/25/06
59794 | Darco, Inc. (Comp) | Huntland, TN | 07/26/06 | 07/06/06
59795 | Handy and Harman Tube Company (Comp) | Norristown, PA | 07/26/06 | 07/26/06
59796 | Universal Structural, Inc. (Union) | Vancouver, WA | 07/26/06 | 07/25/06
59797 | Canteen Vending (State) | Hickory, NC | 07/27/06 | 07/26/06
59798 | Kwikset Corporation (Comp) | Denison, TX | 07/27/06 | 07/26/06
59799 | J.D. Phillips Corporation (Comp) | Alpena, MI | 07/27/06 | 07/25/06
59800A | Delphi Packard Electric System (Union) | Cortland, OH | 07/27/06 | 07/26/06
59800 | Delphi Packard Electric System (Union) | Bazetta Township, OH | 07/27/06 | 07/26/06
59800B | Delphi Packard Electric System (Union) | Rootstown, OH | 07/27/06 | 07/26/06
59800C | Delphi Packard Electric System (Union) | Vienna, OH | 07/27/06 | 07/26/06
59800D | Delphi Packard Electric System (Union) | Warren, OH | 07/27/06 | 07/26/06
59801 | Shirts by Astro, LLC (Wkrs) | Doyle, TN | 07/27/06 | 07/21/06
59802 | New Haven Copper Co., Olin Corporation (State) | Seymour, CT | 07/27/06 | 07/26/06
59803 | Irving Tanning Co. (Comp) | Hartland, ME | 07/27/06 | 07/25/06
59804 | Carroll Companies, Inc. (Comp) | Boone, NC | 07/27/06 | 07/27/06
59805 | Stone Transportation (State) | Dimondale, MI | 07/28/06 | 07/19/06
59806 | Securitas (State) | Lansing, MI | 07/28/06 | 07/19/06
59807 | Regional Steel Distribution Center (State) | Holt, MI | 07/28/06 | 07/19/06
59808 | Quaker Chemical (State) | Detroit, MI | 07/28/06 | 07/19/06
59809 | HSS Materials Management Solutions (State) | Lansing, MI | 07/28/06 | 07/19/06
59810 | EDS (State) | Lansing, MI | 07/28/06 | 07/19/06
59811 | Comprehensive Logistics (State) | Fowlerville, MI | 07/28/06 | 07/19/06
59812 | Canteen (State) | Belmont, MI | 07/28/06 | 07/19/06
59813 | Bartech (State) | Grandville, MI | 07/28/06 | 07/19/06
59814 | Aerotek (State) | Okemos, MI | 07/28/06 | 07/19/06
59815 | Suntron Northeast Operations (Comp) | Lawrence, MA | 07/28/06 | 07/25/06
59816 | United Health Group/Ingenix (State) | Eden Prarie, MN | 07/28/06 | 07/27/06
59817 | Synthron, Inc. (Comp) | Morganton, NC | 07/28/06 | 07/10/06

[FR Doc. E6-13093 Filed 8-9-06; 8:45 am]

BILLING CODE 4510-30-P